DEPARTMENT OF ENERGY

Federal Energy Regulatory Commission

[Docket No. MG01-31-000]

Transcontinental Gas Pipeline Corporation; Notice of Filing

September 14, 2001.

Take notice that on August 31, 2001, Transcontinental Gas Pipeline Corporation filed revised standards of conduct under Order No. 637.¹

¹ Regulation of Short-Term Natural Gas Transportation Services and Regulation of Interstate Natural Gas Transportation Services, 63 FR 10156 (February 25, 2000), FERC Statutes and Regulations 31,091 (February 9, 2000) (Order No. 637) and Order No. 637-A, FERC Statutes and Regulations 31,099 (May 19, 2000.)

Any person desiring to be heard or to protest said filing should file a motion to intervene or protest in this proceeding with the Federal Energy Regulatory Commission, 888 First Street, NE, Washington, DC, 20426, in accordance with Rules 211 or 214 of the Commission's Rules of Practice and Procedure (18 CFR 385.211 or 385.214 (2001)). All such motions to intervene or protest should be filed on or before 15 days from issuance. Protests will be considered by the Commission in determining the appropriate action to be taken but will not serve to make protestants parties to the proceeding. Any person wishing to become a party must file a motion to intervene. Copies of these filings are on file with the Commission and are available for public inspection. This filing may be viewed on the web at http://www.ferc.fed.us/online/rims.htm (call 202-208-2222 for assistance).

Linwood A. Watson, Jr.,
Acting Secretary.

[FR Doc. 01-23514 Filed 9-19-01; 8:45 am]

BILLING CODE 6717-01-P